DEPARTMENT OF TRANSPORTATION

Federal Aviation Administration

[Docket No. FAA-2024-1625]

Agency Information Collection Activities: Requests for Comments; Clearance of a Renewed Approval of Information Collection: Certification: Airmen Other Than Flight Crewmembers, Aircraft Dispatchers and Aircraft Dispatcher Courses

AGENCY: Federal Aviation Administration (FAA), Department of Transportation (DOT).

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 22, 2024. The collection involves the information that each applicant for an aircraft dispatcher certificate or FAA approval of an aircraft dispatcher course must submit to the FAA. These applications, reports and training course materials are provided to the local FAA Flight Standards District Office that oversees the certificates and FAA approvals. The collection is necessary for the FAA to determine qualification and the ability of the applicant to safely dispatch aircraft. Without this collection of information, applicants for a certificate or course approval would not be able to receive certification or approval. The collection of information for those who choose to train aircraft dispatcher applicants is to protect the applicants by ensuring that they are properly trained.

DATES: Written comments should be submitted by June 2, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Näleé D. Romero by email at: Nalee.romero@faa.gov; by phone at: (202) 267-4702.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0648.

Title: Part 65—Certification: Airmen Other Than Flight Crewmembers, Subpart C—Aircraft Dispatchers and Appendix A to Part 65—Aircraft Dispatcher Courses.

Form Numbers: None.

Type of Review: Renewal of an information collection.

Background: The Federal Register Notice with a 60-day comment period soliciting comments on the following collection of information was published on May 22, 2024 (89 FR 45046). This collection involves the information that each applicant for an aircraft dispatcher certificate or FAA approval of an aircraft dispatcher course must submit to the FAA to comply with 14 CFR part 65, subpart C and appendix A. These applications, reports and training course materials are provided to the responsible FAA Flight Standards Office that oversees the certificates and FAA approvals.

This collection involves the knowledge testing that each applicant for an aircraft dispatcher certificate must successfully complete or information required to obtain FAA approval of an aircraft dispatcher course in order to comply with 14 CFR part 65, subpart C and appendix A. These applications, reports and training course materials are provided to the responsible FAA Flight Standards Office which oversees the certificates and FAA approvals.

The collection is necessary for the FAA to determine qualification and the ability of the applicant to safely dispatch aircraft. Without this collection of information, applicants for a certificate or course approval would not be able to receive certification or approval. The collection of information for those who choose to train aircraft dispatcher applicants is to protect the applicants by ensuring that they are properly trained.

Respondents: 51 approved Course Operators and average of 1,020 total Students.

Frequency: The collection is conducted annually.

Estimated Average Burden per Response: Varies by approved school number of courses and students enrolled: Average of 108 hours per approved course operator.

Estimated Total Annual Burden: 5,499 Hours.

Issued in Washington, DC.
Näleé D. Romero,
PRA Program Manager or Management & Program Analyst, Air Transportation Division, AFS-200.

[FR Doc. 2025-10051 Filed 5-29-25; 4:15 pm]

BILLING CODE 4910-13-P